DEPARTMENT OF HEALTH AND HUMAN SERVICES

Centers for Disease Control and Prevention

Draft Research Agenda for the National Center for Injury Prevention and Control

AGENCY: Centers for Disease Control and Prevention, Department of Health and Human Services.

ACTION: Notice of the availability of draft research agenda and request for comments.

SUMMARY: The Centers for Disease Control and Prevention (CDC) announces the availability of the Draft Research Agenda for the National Center for Injury Prevention and Control (NCIPC) and solicits comments during the public comment period of July 18, 2001, through August 20, 2001. Over the past year, NCIPC has been developing a research agenda based on input from internal staff and external experts in the field of injury prevention and control. The research themes presented are designed to represent the breadth and depth of the field within eight topic areas including; suicide, youth violence, intimate partner violence/sexual violence/child maltreatment, transportation and mobility, sports/recreation/exercise, residential and community safety, acute care, and disability and rehabilitation.

DATES: Public comment period will be July 18-August 20, 2001.

ADDRESSES: Interested persons are invited to comment on the Draft Research Agenda. NCIPC will not be able to respond to individual comments, but all comments received by August 20, 2001, will be considered before the final Research Agenda is published. View the Draft Research Agenda and submit comments electronically at http://www.qrc.com/ncipcagenda. Alternatively, hard copy versions of the draft research agenda may be obtained by contacting Dr. Judy Berkowitz at ORC Macro, 3 Corporate Square, NE., Suite 370, Atlanta, GA 30329. Telephone 404-321-3211 or Email address: agenda@macroint.com.

FOR FURTHER INFORMATION CONTACT: Dr. Judy Berkowitz, ORC Macro 3 Corporate Square, NE., Suite 370, Atlanta, GA 30329. Email address: agenda@macroint.com. Telephone: (404) 321-3211.

Dated: July 18, 2001.
Joseph R. Carter,
Associate Director for Management and Operations, Centers for Disease Control and Prevention (CDC).

[FR Doc. 01-18371 Filed 7-23-01; 8:45 am]

BILLING CODE 4163-18-P